ENVIRONMENTAL PROTECTION AGENCY

[EPA-HQ-OPP-2021-0749; FRL-9181-01-OCSP]

Agency Information Collection Activities; Proposed Renewal of an Existing Collection and Request for Comment; Foreign Purchaser Acknowledgement Statement

AGENCY: Environmental Protection Agency (EPA).

ACTION: Notice.

SUMMARY: In compliance with the Paperwork Reduction Act (PRA), this document announces the availability of and solicits public comment on an Information Collection Request (ICR) that EPA is planning to submit to the Office of Management and Budget (OMB). The ICR, entitled: “Foreign Purchaser Acknowledgement Statement” and identified by EPA ICR No. 0161.16 and OMB Control No. 2070-0027, represents the renewal of an existing ICR that is scheduled to expire on December 31, 2022. Before submitting the ICR to OMB for review and approval under the PRA, EPA is soliciting comments on specific aspects of the information collection that is summarized in this document. The ICR and accompanying material are available in the docket for public review and comment.

DATES: Comments must be received on or before May 2, 2022.

ADDRESSES: Submit your comments, identified by docket identification (ID) number EPA-HQ-OPP-2021-0749, though the Federal eRulemaking Portal at https://www.regulations.gov. Follow the online instructions for submitting comments. Do not submit electronically any information you consider to be Confidential Business Information (CBI) or other information whose disclosure is restricted by statute. Additional instructions on commenting or visiting the docket, along with more information about dockets generally, is available at http://www.epa.gov/dockets.

Due to the public health concerns related to COVID-19, the EPA Docket Center (EPA/DC) and Reading Room is opened to visitors by appointment only. For the latest status information on EPA/DC and docket access, visit https://www.epa.gov/dockets.

FOR FURTHER INFORMATION CONTACT: For general information contact: Carolyn Siu, Regulatory Support Branch (7101M), Office of Chemical Safety and Pollution Prevention, Environmental Protection Agency, 1200 Pennsylvania Ave. NW, Washington, DC 20460-0001; telephone number: (202) 566-1205; email address: siu.carolyn@epa.gov.

SUPPLEMENTARY INFORMATION:

I. What information is EPA particularly interested in?

Pursuant to PRA section 3506(c)(2)(A) (44 U.S.C. 3506(c)(2)(A)), EPA specifically solicits comments and information to enable it to:

1. Evaluate whether the proposed collection of information is necessary for the proper performance of the functions of the Agency, including whether the information will have practical utility.

2. Evaluate the accuracy of the Agency's estimates of the burden of the proposed collection of information, including the validity of the methodology and assumptions used.

3. Enhance the quality, utility, and clarity of the information to be collected.

4. Minimize the burden of the collection of information on those who are to respond, including through the use of appropriate automated electronic, mechanical, or other technological collection techniques or other forms of information technology, e.g., permitting electronic submission of responses. In particular, EPA is requesting comments from very small businesses (those that employ less than 25) on examples of specific additional efforts that EPA could make to reduce the paperwork burden for very small businesses affected by this collection.

II. What information collection activity or ICR does this action apply to?

Title: Foreign Purchaser Acknowledgement Statement.

ICR numbers: EPA ICR No. 0161.16, and OMB Control No. 2070-0027.

ICR status: This ICR is currently scheduled to expire on December 31, 2022. An Agency may not conduct or sponsor, and a person is not required to respond to, a collection of information, unless it displays a currently valid OMB control number. The OMB control numbers for EPA's regulations in title 40 of the Code of Federal Regulations (CFR), after appearing in the Federal Register when approved, are displayed either by publication in the Federal Register or by other appropriate means, such as on the related collection instrument or form, if applicable. The display of OMB control numbers for certain EPA regulations is consolidated in 40 CFR part 9.

Abstract: This ICR addresses the information collection activities associated with the requirement that the EPA receive notice from pesticide registrants that foreign purchasers of unregistered pesticides exported from the United States. This statement is to ascertain understanding that the pesticide product cannot be sold in the United States. Section 17(a)(2) of the Federal Insecticide, Fungicide, and Rodenticide Act (FIFRA) requires an exporter of any pesticide not registered under FIFRA section 3 or sold under FIFRA section 6(a)(1) to obtain a signed statement from the foreign purchaser acknowledging that the purchaser is aware that the pesticide is not registered for use in, and cannot be sold in, the United States. A copy of this statement, which is known as the Foreign Purchaser Acknowledgement Statement, or FPAS, must be transmitted, by EPA, to the Designated National Authority or appropriate official of the government in the importing country. This information is submitted via mail or electronically through the Central Data Exchange (CDX) in the form of annual or per-shipment statements to EPA, which maintains original records and transmits copies, along with an explanatory letter, via email to appropriate government officials of the countries that are importing the pesticide.

In addition to the export notification for unregistered pesticides, FIFRA requires that all exported pesticides include appropriate labeling. There are different requirements for registered and unregistered products. For registered products, export labeling requirements alone meet the definition of third-party notification. In the interests of consolidating various related information collection requests, this ICR includes burden estimates for the FPAS requirement for unregistered pesticides, as well as the labeling requirement for all exported pesticides, both registered and unregistered. These burdens have been consolidated in this ICR since the implementation of the 1993 pesticide export policy governing the export of pesticides, devices, and active ingredients used in producing pesticides.

The ICR, which is available in the docket along with other related materials, provides a detailed explanation of the collection activities and the burden estimate that is only briefly summarized here.

Burden statement: The annual public reporting and recordkeeping burden for this collection of information is estimated to average 1.06 hours per response. Burden is defined in 5 CFR 1320.3(b).

Respondents/Affected Entities: Entities potentially affected by this ICR are individuals or entities engaged that either manufacture and export pesticides or that reformulate or repackage and export pesticides. The North American Industrial Classification System (NAICS) code assigned to the parties responding to this information is 3250A1.

Respondent's obligation to respond: Mandatory under FIFRA section 17(a)(2).

Estimated total number of potential respondents: 2,240.

Frequency of response: On occasion.

Estimated total average number of responses for each respondent: 5,014.

Estimated total annual burden hours: 16,660 hours.

Estimated total annual costs: $1,265,501, which includes an estimated cost of $0 for capital investment or maintenance and operational costs.

III. Are there changes in the estimates from the last approval?

There is no change in burden from that currently approved by OMB. There were adjustments to the Agency burden estimate related to the ongoing COVID 19 public health emergency, during which EPA has had limited access to regular mail since March 2020, which prompted EPA to announce a temporary COVID 19 flexibility to allow for secure electronic submissions (86 FR 46246, August 18, 2021) (FRL-8721-01-OCSPP). Given this circumstance, EPA cannot yet estimate the annual changes in the number of submissions based on historical data about submission over the last 3 years, and/or changes in burden since the existing ICR was approved by OMB. Instead, this ICR relies on previous estimates and assumes the numbers have largely remained steady over the past 3 years.

In addition, OMB has requested that EPA move towards using the 18-question format for ICR Supporting Statements used by other federal agencies and departments and is based on the submission instructions established by OMB in 1995, replacing the alternate format developed by EPA and OMB prior to 1995. The Agency does not expect this change in format to result in substantive changes to the information collection activities or related estimated burden and costs.

IV. What is the next step in the process for this ICR?

EPA will consider the comments received and amend the ICR as appropriate. The final ICR package will then be submitted to OMB for review and approval pursuant to 5 CFR 1320.12. EPA will issue another Federal Register document pursuant to 5 CFR 1320.5(a)(1)(iv) to announce the submission of the ICR to OMB and the opportunity to submit additional comments to OMB. If you have any questions about this ICR or the approval process, please contact the person listed under FOR FURTHER INFORMATION CONTACT.

Authority: 44 U.S.C. 3501 et seq.

Dated: February 23, 2022.
Michal Freedhoff,
Assistant Administrator, Office of Chemical Safety and Pollution Prevention.

[FR Doc. 2022-04230 Filed 2-28-22; 8:45 am]

BILLING CODE 6560-50-P